DEPARTMENT OF LABOR

Employment and Training Administration

[TA-W-82,137]

Naugatuck Valley Surgical Center, Department of Saint Mary's Hospital, Waterbury, CT: Notice of Affirmative Determination, Regarding Application for Reconsideration

By application dated January 16, 2013, the State of Connecticut Department of Labor requested administrative reconsideration of the negative determination regarding workers' eligibility to apply for Trade Adjustment Assistance (TAA) applicable to workers and former workers of Naugatuck Valley Surgical Center, Department of Saint Mary's Hospital, Waterbury, Connecticut (subject firm). The determination was issued on December 11, 2012. The Department's Notice of Determination was published in the Federal Register on January 4, 2013 (78 FR 771). The workers supply medical transcription services.

The initial investigation resulted in a negative determination based on the findings that there was no shift in the supply of services to a foreign country by the subject firm and no increased imports of services like or directly competitive with those supplied by the subject worker group.

The request for reconsideration supplied new information regarding a possible acquisition from a foreign country by the subject firm of services like or directly competitive with the services supplied by the subject worker group.

The Department has carefully reviewed the request for reconsideration and the existing record, and will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 25th day of January, 2013.
Del Mi Amy Chen,
Certifying Officer, Office of Trade Adjustment Assistance.

[FR Doc. 2013-03094 Filed 2-11-13; 8:45 am]

BILLING CODE 4510-FN-P